DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 21, 2007.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street SW., Washington, DC or at http://dms.dot.gov.

This notice of receipt of applications for special permit is published in accordance with Part 107 of the Federal hazardous materials transportation law (49 U.S.C. 5117(b); 49 CFR 1.53(b)).

Issued in Washington, DC, on April 12, 2007.
Delmer Billings,
Director, Special Permits & Approvals Programs, Office of Hazardous Materials, Special Permits & Approvals.

New Special Permits
Application number | Docket number | Applicant | Regulation(s) affected | Nature of special permits thereof
14487-N |  | Osmose Inc. Millington, TN | 49 CFR 173.212 | To authorize the one-way transportation in commerce of Arsenic trioxide, Division 6.1, PG II in non-DOT specification drums. (mode 1)
14492-N |  | Tankbouw Rootselaar B.V. The Netherlands | 49 CFR 178.276(a)(1) and (a)(2) | To authorize the manufacture, mark, sale and use of non-DOT specifications portable tanks conforming with the 2004 edition (+2005 Addenda) of Section VIII, Division 1 of the ASME Code for the transportation in commerce of certain Division 2.1 and 2.2 hazardous materials. (modes 1, 2, 3)
14493-N |  | Thermacore, Inc. Lancaster, PA | 49 CFR 173.306(e) | To authorize the transportation in commerce of non-DOT specification containers (heat pipes) containing anhydrous ammonia for use in specialty cooling applications (modes 1, 2, 3, 4)
14494-N |  | Airgas, Inc. Cheyenne, WY | 49 CFR 172.202, 172.301(a), and 172.301(c) | To authorize the transportation in commerce of cylinders that are marked with obsolete proper shipping descriptions to allow for their return. (modes 1, 2, 3, 4, 5)
14495-N |  | GE Healthcare Arlington Heights, IL | 49 CFR 173.302(a), 175.3 | To authorize the transportation in commerce of a Division 2.2 gas in a non-DOT specification cylinder (modes 1, 4)
14496-N |  | Oilphase Division, Schlumberger Eval. & Production (UK) Ltd Dyce, Aberdeen, UK | 49 CFR 173.201(c), 173.202(c), 173.203(c), 172.301(f), 173.302(a), 173.304(d), 173.304(d), 175.3 | To authorize the manufacture, marking, sale and use of non-DOT specifications cylinders similar to a DOT 3A for the transportation of Division 2.1 and 2.3 gases. (modes 1, 2, 3, 4)
14499-N |  | Optimus International | 49 CFR 173.304a(d)(3)(ii) AB | To authorize the manufacture, marking, sale and use of non-DOT specification, nonrefillable inside containers similar to DOT-2P for certain Division 2.1 flammable gases. (modes 1, 2, 3, 4)
14500-N |  | Northwest Respiratory Services St. Paul, MN | 49 CFR 172.203(a); 177.834(h) | To authorize the loading and unloading of DOT 4L cylinders without unloading them from a vehicle. (mode 1)
14504-N |  | Medis Technologies Ltd. New York, NY | 49 CFR 175.10(a) | To authorize passengers and crewmembers on aircraft to carry on baggage containing micro fuel cell systems with a small quantity of sodium/potassium borohydride solution, a Class 8, PG II liquid and a small quantity of potassium hydroxide electrolyte solution, a Class 8, PG II liquid. (mode 5)

[FR Doc. 07-1931 Filed 4-18-07; 8:45 am]

BILLING CODE 4909-60-M